COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities and deletes product(s) and service(s) previously furnished by such agencies.

DATES: Comments must be received on or before: December 8, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-2.4(b), Government personnel within the contracting activity have identified this as a product requirement not applicable to other Federal entities and has requested the Committee consider granting a purchase or distribution preference if the product is added to the Procurement List. See 71 FR 69536 (Dec. 1, 2006). If the Committee grants this request, the product listed below will not be available through the U.S. AbilityOne Commission's Commercial Distribution Program. The Committee will consider this request along with relevant comments received from interested parties.

The following product(s) are proposed for addition to the Procurement List for production by the nonprofit agencies listed:

Product(s)

NSN(s)—Product Name(s):

8415-01-698-4357—Knee Pad, Advanced Integrated

Authorized Source of Supply: The Lighthouse for the Blind, Inc. (Seattle Lighthouse), Seattle, WA

Contracting Activity: DEFENSE LOGISTICS AGENCY, DLA TROOP SUPPORT

Distribution: C-List

Deletions

The following product(s) and service(s) are proposed for deletion from the Procurement List:

Product(s)

NSN(s)—Product Name(s):

8455-01-388-8485—Insignia, US Air Force, Master Sergeant, Embroidered

Authorized Source of Supply: Westmoreland County Association, Greensburg, PA

Contracting Activity: DLA TROOP SUPPORT, PHILADELPHIA, PA

NSN(s)—Product Name(s):

8415-01-623-5052—Coat, Army Combat Uniform, Permethrin, Unisex, OCP 2015, XS-XXS

8415-01-623-5162—Coat, Army Combat Uniform, Permethrin, Unisex, OCP 2015, XS-XS

8415-01-623-5165—Coat, Army Combat Uniform, Permethrin, Unisex, OCP 2015, XS-S

8415-01-623-5166—Coat, Army Combat Uniform, Permethrin, Unisex, OCP 2015, XS-R

8415-01-623-5169—Coat, Army Combat Uniform, Permethrin, Unisex, OCP 2015, XS-L

8415-01-623-5170—Coat, Army Combat Uniform, Permethrin, Unisex, OCP 2015, XS-XL

8415-01-623-5172—Coat, Army Combat Uniform, Permethrin, Unisex, OCP 2015, S-XXS

8415-01-623-5174—Coat, Army Combat Uniform, Permethrin, Unisex, OCP 2015, S-XS

8415-01-623-5178—Coat, Army Combat Uniform, Permethrin, Unisex, OCP 2015, S-S

8415-01-623-5180—Coat, Army Combat Uniform, Permethrin, Unisex, OCP 2015, S-R

8415-01-623-5182—Coat, Army Combat Uniform, Permethrin, Unisex, OCP 2015, S-L

8415-01-623-5236—Coat, Army Combat Uniform, Permethrin, Unisex, OCP 2015, S-XL

8415-01-623-5237—Coat, Army Combat Uniform, Permethrin, Unisex, OCP 2015, M-XXS

8415-01-623-5525—Coat, Army Combat Uniform, Permethrin, Unisex, OCP 2015, M-XS

8415-01-623-5526—Coat, Army Combat Uniform, Permethrin, Unisex, OCP 2015, M-S

8415-01-623-5528—Coat, Army Combat Uniform, Permethrin, Unisex, OCP 2015, M-R

8415-01-623-5529—Coat, Army Combat Uniform, Permethrin, Unisex, OCP 2015, M-L

8415-01-623-5534—Coat, Army Combat Uniform, Permethrin, Unisex, OCP 2015, M-XL

8415-01-623-5537—Coat, Army Combat Uniform, Permethrin, Unisex, OCP 2015, M-XXL

8415-01-623-5541—Coat, Army Combat Uniform, Permethrin, Unisex, OCP 2015, L-XXS

8415-01-623-5542—Coat, Army Combat Uniform, Permethrin, Unisex, OCP 2015, L-XS

8415-01-623-5543—Coat, Army Combat Uniform, Permethrin, Unisex, OCP 2015, L-S

8415-01-623-5552—Coat, Army Combat Uniform, Permethrin, Unisex, OCP 2015, L-R

8415-01-623-5553—Coat, Army Combat Uniform, Permethrin, Unisex, OCP 2015, L-L

8415-01-623-5554—Coat, Army Combat Uniform, Permethrin, Unisex, OCP 2015, L-XL

8415-01-623-5557—Coat, Army Combat Uniform, Permethrin, Unisex, OCP 2015, L-XXL

8415-01-623-5740—Coat, Army Combat Uniform, Permethrin, Unisex, OCP 2015, XL-XXS

8415-01-623-5742—Coat, Army Combat Uniform, Permethrin, Unisex, OCP 2015, XL-XS

8415-01-623-5789—Coat, Army Combat Uniform, Permethrin, Unisex, OCP 2015, XL-S

8415-01-623-5790—Coat, Army Combat Uniform, Permethrin, Unisex, OCP 2015, XL-R

8415-01-623-5793—Coat, Army Combat Uniform, Permethrin, Unisex, OCP 2015, XL-L

8415-01-623-5795—Coat, Army Combat Uniform, Permethrin, Unisex, OCP 2015, XL-XL

8415-01-623-5796—Coat, Army Combat Uniform, Permethrin, Unisex, OCP 2015, XL-XXL

8415-01-623-5797—Coat, Army Combat Uniform, Permethrin, Unisex, OCP 2015, XXL-R

8415-01-623-5801—Coat, Army Combat Uniform, Permethrin, Unisex, OCP 2015, XXL-L

8415-01-623-5803—Coat, Army Combat Uniform, Permethrin, Unisex, OCP 2015, XXL-XL

8415-01-623-5805—Coat, Army Combat Uniform, Permethrin, Unisex, OCP 2015, XXL-XXL

Authorized Source of Supply: Goodwill Industries of South Florida, Inc., Miami, FL

Authorized Source of Supply: ReadyOne Industries, Inc., El Paso, TX

Authorized Source of Supply: Goodwill Industries of South Florida, Inc., Miami, FL

Authorized Source of Supply: MISSISSIPPI INDUSTRIES FOR THE BLIND (INC), Jackson, MS

Designated Source of Supply: INDUSTRIES OF THE BLIND, INC, Greensboro, NC

Designated Source of Supply: San Antonio Lighthouse for the Blind, San Antonio, TX

Designated Source of Supply: Blind Industries & Services of Maryland, Baltimore, MD

Contracting Activity: W6QK ACC-APG NATICK, NATICK, MA

Contracting Activity: DLA TROOP SUPPORT, PHILADELPHIA, PA

NSN(s)—Product Name(s):

7210-00-118-0010—Cover, Mattress Pad, Olive Green, 28″ x 77″

Authorized Source of Supply: Westmoreland County Association, Greensburg, PA

Contracting Activity: DLA TROOP SUPPORT, PHILADELPHIA, PA

Service(s)

Service Type: Recycling Service

Mandatory for: US Army, US Army Garrison Hawaii, Aliamanu Military Reservation, Honolulu, HI

Mandatory for: US Army, US Army Garrison Hawaii, Schofield Barracks, HI

Mandatory for: US Army, US Army Garrison Hawaii, Tripler Army Medical Center, Honolulu, HI

Mandatory for: US Army, US Army Garrison Hawaii, Fort Shafter, HI

Mandatory for: US Army, US Army Garrison Hawaii, Helemano Military Reservation, Fort Shafter, HI

Mandatory for: US Army, US Army Garrison Hawaii, Pililaau Army Recreation Center, Waianae, HI

Mandatory for: US Army, US Army Garrison Hawaii, Wheeler Army Airfield, Schofield Barracks, Oahu, HI

Authorized Source of Supply: Goodwill Contract Services of Hawaii, Inc., Honolulu, HI

Contracting Activity: DEPT OF THE ARMY, 0413 AQ HQ

Service Type: Grounds Maintenance

Mandatory for: Constitution Gardens, Washington, DC

Authorized Source of Supply: Melwood Horticultural Training Center, Inc., Upper Marlboro, MD

Contracting Activity: OFFICE OF POLICY, MANAGEMENT, AND BUDGET, NBC ACQUISITION SERVICES DIVISION

Service Type: Administrative Service

Mandatory for: National Park Service: 12795 W Alameda Parkway, Lakewood, CO

Authorized Source of Supply: Bayaud Enterprises, Inc., Denver, CO

Contracting Activity: OFFICE OF POLICY, MANAGEMENT, AND BUDGET, NBC ACQUISITION SERVICES DIVISION

Michael R. Jurkowski,
Director, Business Operations.

[FR Doc. 2024-26017 Filed 11-7-24; 8:45 am]

BILLING CODE 6353-01-P